DEPARTMENT OF STATE

22 CFR Parts 120 and 126

[Public Notice: 12731]

RIN 1400-AF83

International Traffic in Arms Regulations: Updates to Certain Proscribed Countries and Other Changes

AGENCY: Department of State.

ACTION: Final rule.

SUMMARY: The Department of State is amending the International Traffic in Arms Regulations (ITAR) to update the entries for the Central African Republic, the Democratic Republic of the Congo, Haiti, Libya, Somalia, South Sudan, and Sudan, pursuant to recent United Nations Security Council resolutions (UNSCRs). Further, the Department is updating the list of North Atlantic Treaty Organization (NATO) members and major non-NATO allies and is making other corrections and clarifications within the ITAR.

DATES: This rule is effective on July 7, 2025.

FOR FURTHER INFORMATION CONTACT: Mr. Ryan Haddad, Foreign Affairs Officer, Office of Defense Trade Controls Policy, U.S. Department of State, telephone: 771-204-7878; email DDTCCustomerService@state.gov. ATTN: Regulatory Change, ITAR Section 126.1 and Other Changes.

SUPPLEMENTARY INFORMATION: The Department is amending ITAR § 126.1 pursuant to recent UNSCRs. Additionally, the Department is making other corrections and clarifications to the ITAR in this rule, including revising ITAR § 120.23 paragraph (a) to amend the list of NATO members to add Finland and Sweden and revise the reference to the Czech Republic to Czechia; paragraph (b) to amend the list of major non-NATO allies by adding Colombia, Kenya, and Qatar and removing Afghanistan; paragraph (c) to amend the list of countries in the Wassenaar Arrangement by revising the reference to the Czech Republic to Czechia; removing duplicative references to the Russian Federation from ITAR § 120.54(a)(5)(iv) and (v); revising ITAR § 126.1(a) to improve its readability by restructuring it to set out its existing exceptions as discreet subparagraphs; and updating the table associated with ITAR § 126.1(d)(2).

The ITAR § 126.1 changes found in this rule are as follows:

Democratic Republic of the Congo (DRC)

On June 27, 2024, the United Nations Security Council (UNSC) adopted Resolution 2738 to support efforts promoting peace and stability in the DRC against continued threats from armed groups operating in the country. In addition to renewing the United Nations (UN) arms embargo against non-governmental entities and individuals, this resolution reaffirmed there is no longer a requirement to pre-notify the DRC Sanctions Committee of shipments of arms and related materiel to the DRC Government, or any provision to the DRC Government of assistance, advice, or training related to military activities in the DRC. The Department is amending ITAR § 126.1(i) to remove this pre-notification requirement. In addition, the Department is amending paragraph (i) by inserting an “or” between the final two paragraphs describing situations in which a license or other approval may be issued. The “or” was inadvertently omitted when the entry was amended by 81 FR 66804, Sept. 29, 2016.

Haiti

On October 18, 2024, the UNSC adopted Resolution 2752, which renewed and revised the UN arms embargo on Haiti. This resolution was intended to further support the Haitian Government's efforts to counter increasing gang violence and criminality that threaten regional peace and stability. The Department is amending ITAR § 126.1(j) to implement recent changes to the UN arms embargo on Haiti related to exports, and the Department is choosing to maintain the inclusion of imports in ITAR § 126.1(j) for policy reasons. Because this amendment involves the removal of paragraph (j)(2), the Department also takes this opportunity to restructure the entry to be consistent with the format for other entries in that section. First, ITAR § 126.1(j) is revised to include the standard policy text previously found at paragraph (j)(1) and the subsequent subordinate paragraphs are redesignated from (i) through (iii) to (1) through (3). Second, new paragraph (j)(1) (formerly (j)(1)(i)) is revised to broaden the existing text to allow for case-by-case consideration of defense article and defense service exports “to or by,” instead of “to,” recipients identified in the paragraph. Third, new paragraph (j)(2) (formerly paragraph (j)(1)(ii)) is revised to permit consideration on a case-by-case basis of exports of defense articles and defense services to Haiti that have been pre-approved by the UNSC Haiti Sanctions Committee. Finally, new paragraph (j)(3) (formerly paragraph (j)(1)(iii)) is revised to permit case-by-case consideration of exports to Haiti of non-lethal military equipment solely for humanitarian or protective use and related technical assistance or training, when intended to further the objectives of peace and stability in Haiti, thereby broadening an existing exclusion for personal protective equipment. In line with these changes, the Department is also amending this paragraph to remove former paragraph (j)(2).

Libya

To support the political stabilization of Libya, and in response to concerns about the growing influence of armed groups in the country, the UNSC adopted Resolution 2769 on January 16, 2025. This revised the existing UN arms embargo by excluding from its scope defense services for the sole purpose of promoting reunification of Libyan military and security institutions, as well as temporary exports of defense articles in support of those activities, as notified in advance to the UNSC Libya Sanctions Committee. Additionally, another exclusion was added for temporary exports to Libya of military aircraft and naval vessels delivering items not otherwise subject to the UN arms embargo, along with any defense articles that remain aboard the vessel or aircraft while in Libya. The resolution also contains an exception for protective clothing for personal use by UN, media, humanitarian, and development personnel and others; small arms, light weapons, and related materiel to certain actors when pre-notified to the UNSC Libya Sanctions Committee; non-lethal military equipment intended solely for humanitarian or protective use, and certain other exceptions. The Department is amending ITAR § 126.1(k) to implement these changes and to remove the existing (k)(1) paragraph, which was removed from the UN arms embargo exclusions through UNSC Resolution 2009 on September 16, 2011.

Somalia

On December 1, 2023, the UNSC adopted two resolutions intended to refocus its arms embargo in support of the Government of the Federal Republic of Somalia's efforts to counter Al-Shabaab, a terrorist group in Somalia. The first, Resolution 2713, applied a comprehensive arms embargo on all deliveries of weapons, ammunition, and military equipment to Somalia with exceptions for deliveries to the Government of the Federal Republic of Somalia, the Somali National Army, the Somali National Intelligence and Security Agency, the Somali National Police Force, and the Somali Custodial Corps, as well as certain other exceptions in the resolution. The second, Resolution 2714, formally lifted the prior nationwide arms embargo on Somalia that had been in place since the adoption of Resolution 733 in 1992. These measures were reauthorized and modified in Resolution 2776 on March 3, 2025. The Department is amending ITAR § 126.1(m) to implement these changes.

Central African Republic (CAR)

On July 30, 2024, the UNSC adopted Resolution 2745, which modified the existing UN arms embargo toward CAR in recognition of the country's security sector reforms and the continuing need to ensure peace and stability within its borders. This resolution lifted the arms embargo for CAR and the associated UNSC Central African Republic Sanctions Committee reporting requirements while the arms embargo remains in place for armed groups and associated individuals operating within CAR. The Department is amending ITAR § 126.1(u) to update the regulations with the corresponding changes adopted through Resolution 2745.

Sudan

On September 11, 2024, the UNSC adopted Resolution 2750, which renewed the UN arms embargo on Sudan in response to continuing conflict in Darfur. The Department is amending ITAR § 126.1(v) to implement this resolution and prior provisions through the deletion of ITAR § 126.1(v)(4), which allowed for a case-by-case review of licenses or other approvals involving assistance and supplies provided in support of implementation of the Comprehensive Peace Agreement. This removal requires minor conforming changes to paragraphs (v)(2) and (v)(3).

South Sudan

On May 30, 2024, the UNSC adopted Resolution 2731, which renewed the UN arms embargo on South Sudan in response to sustained civil strife within the country. This embargo does not apply to defense article and defense service exports to UN personnel and certain UN-authorized missions; non-lethal military equipment and related technical assistance for humanitarian or protective use, as notified in advance to the UNSC South Sudan Sanctions Committee; protective clothing for the personal use of UN personnel, media members, and humanitarian and development workers and associated personnel; arms and related material temporarily exported by a state to protect or evacuate its people as notified to the UNSC South Sudan Sanctions Committee; arms and related material, including technical assistance, to or in support of the African Union Regional Task Force for the purpose of countering the Lord's Resistance Army as notified to the UNSC South Sudan Sanctions Committee; arms and related material, including technical assistance, to support peace agreement implementation as pre-approved by the UNSC South Sudan Sanctions Committee; and other arms and technical assistance pre-approved by the UNSC South Sudan Sanctions Committee. The arms embargo was previously revised on May 26, 2022, through Resolution 2633, which created an exclusion for exports of non-lethal military equipment solely in support of peace agreement implementation when pre-notified to the UNSC South Sudan Sanctions Committee. It was also previously revised on May 30, 2023, by Resolution 2683, which removed the pre-notification requirement on that new exclusion. The Department is amending ITAR § 126.1(w) to reflect these UNSC resolutions.

Other corrections and clarifications found in this rule are as follows:

• In § 120.23, paragraph (a), references to Finland and Sweden are added to the list of member states of NATO and the reference to the Czech Republic is revised to Czechia; in paragraph (b), Qatar, Colombia, and Kenya are added, and Afghanistan is removed from the list of countries designated as major non-NATO allies, see 87 FR 15025, Mar. 17, 2022, 87 FR 32943, May 31, 2022, 89 FR 57055, July 12, 2024, and 87 FR 60057, Oct. 4, 2022, respectively; and in paragraph (c), the reference to the Czech Republic is revised to Czechia.

• In ITAR § 120.54(a)(5)(iv) and (v), the Russian Federation is removed, as the country was added to ITAR § 126.1 by 86 FR 14802, Mar. 18, 2021.

• ITAR § 126.1(a) is restructured without substantive changes to improve its clarity.

• In § 126.1, table 2 to paragraph (d)(2) is amended by inverting the entries for Ethiopia and Eritrea to be in the correct alphabetical order, and reinserting an entry for Cambodia, which was inadvertently omitted from the directional table by 89 FR 18796, Mar. 15, 2024. Although omitted from the table, the Department notes that paragraph (o) is the controlling provision, and not the alphabetically sorted table 2 to paragraph (d)(2), which is included as a guide to assist the reader in locating the relevant country paragraph. Because of its inclusion at paragraph (o), Cambodia remained subject to the policy to deny licenses or other approvals for exports and imports of defense articles and defense services, except as otherwise provided, during its absence from the table.

• In § 126.1(l), the Department amends the paragraph regarding the policy towards Russia to eliminate from the regulatory text the expired exception allowing case-by-case review of requests for authorization for commercial space launches (see 86 FR 14802, Mar. 18, 2021).

• In § 126.1, as part of its reorganization efforts to standardize text throughout the ITAR when otherwise revising a section, the Department amends certain paragraphs in order to adopt a uniform style of list regarding exceptions to the original policy statement of the introductory text of each paragraph. Whereas previously the exceptions lists concluded with either an “and” or an “or” between the penultimate and final exceptions of the list, the Department amends affected paragraphs in this section to use “or” where appropriate. These changes are to paragraphs (f)(1) and (j)(2). A similar revision is described above in the preamble text specific to the DRC.

Regulatory Analysis and Notices

Administrative Procedure Act

This rulemaking is exempt from the rulemaking requirements of section 553 of the Administrative Procedure Act (APA) pursuant to 5 U.S.C. 553(a)(1) as a military or foreign affairs function of the United States.

Regulatory Flexibility Act

Since this rule is exempt from the notice-and-comment provisions of 5 U.S.C. 553, the rule does not require analysis under the Regulatory Flexibility Act.

Unfunded Mandates Reform Act of 1995

This rulemaking does not involve a mandate that will result in the expenditure by State, local, and tribal governments, in the aggregate or by the private sector, of $100 million or more in any year, and it will not significantly or uniquely affect small governments. Therefore, no actions are deemed necessary under the provisions of the Unfunded Mandates Reform Act of 1995.

Congressional Review Act

The Department does not believe this rulemaking is a major rule within the definition of 5 U.S.C. 804.

Executive Orders 12372 and 13132

This rulemaking does not have sufficient federalism implications to require consultations or warrant the preparation of a federalism summary impact statement. The regulations implementing Executive Order 12372 regarding intergovernmental consultation on Federal programs and activities do not apply to this rulemaking.

Executive Orders 12866, 14192, and 13563

Executive Order 12866, as amended by Executive Orders 13563, directs agencies to assess all costs and benefits of available regulatory alternatives and, if regulation is necessary, to select regulatory approaches that maximize net benefits (including potential economic, environmental, public health, and safety effects). As a result of this change, certain exemptions to licensing requirements will not be available for exports, and temporary imports destined for or originating in the Central African Republic, the Democratic Republic of the Congo, Haiti, Libya, Somalia, South Sudan, or Sudan. However, a license or other approval may be issued on a case-by-case basis as described below. Because the scope of this rule does not impose significant additional regulatory requirements or obligations, the Department believes costs associated with this rule will be minimal. This rule is exempt from the requirements of Executive Order 14192 because it relates to a foreign affairs function of the United States. This rule has been designated a “non-significant regulatory action” by the Office of Information and Regulatory Affairs under Executive Order 12866.

Executive Order 12988

The Department of State has reviewed this rulemaking in light of Executive Order 12988 to eliminate ambiguity, minimize litigation, establish clear legal standards, and reduce burden.

Executive Order 13175

The Department of State determined that this rulemaking will not have tribal implications, will not impose substantial direct compliance costs on Indian tribal governments, and will not preempt tribal law. Accordingly, Executive Order 13175 does not apply to this rulemaking.

Paperwork Reduction Act

This rulemaking does not impose or revise any information collections subject to 44 U.S.C. Chapter 35.

List of Subjects

22 CFR Part 120

Arms and munitions, Classified information, Exports.

22 CFR Part 126

Arms and munitions, Exports, Reporting and recordkeeping requirements, Technical assistance.

For the reasons set forth above, the Department of State amends title 22, chapter I, subchapter M, parts 120 and 126 of the Code of Federal Regulations as follows:

PART 120—PURPOSE AND DEFINITIONS

1. The authority citation for part 120 continues to read as follows:

Authority: 22 U.S.C. 2651a, 2752, 2753, 2776, 2778, 2779, 2779a, 2785, 2794, 2797; E.O. 13637, 78 FR 16129, 3 CFR, 2013 Comp., p. 223.

2. Amend § 120.23 by revising paragraphs (a), (b)(2), and (c)(1) to read as follows:

§ 120.23 Organizations and arrangements.

(a) North Atlantic Treaty Organization. North Atlantic Treaty Organization (NATO) refers to the organization of member states that are parties to the North Atlantic Treaty, which members include: Albania, Belgium, Bulgaria, Canada, Croatia, Czechia, Denmark, Estonia, Finland, France, Germany, Greece, Hungary, Iceland, Italy, Latvia, Lithuania, Luxembourg, Montenegro, the Netherlands, North Macedonia, Norway, Poland, Portugal, Romania, Slovakia, Slovenia, Spain, Sweden, Turkey, the United Kingdom, the United States, and any state not included here that has deposited an instrument of accession in accordance with Article 10 of the North Atlantic Treaty.

(b) * * *

(2) The following countries have been designated as major non-NATO allies: Argentina, Australia, Bahrain, Brazil, Colombia, Egypt, Israel, Japan, Jordan, Kenya, Kuwait, Morocco, New Zealand, Pakistan, the Philippines, Qatar, the Republic of Korea, Thailand, and Tunisia. Taiwan shall be treated as though it were designated a major non-NATO ally.

(c) Wassenaar Arrangement. (1) The Wassenaar Arrangement refers to the Wassenaar Arrangement on Export Controls for Conventional Arms and Dual-Use Goods and Technologies among the United States, Argentina, Australia, Austria, Belgium, Bulgaria, Canada, Croatia, Czechia, Denmark, Estonia, Finland, France, Germany, Greece, Hungary, India, Ireland, Italy, Japan, Latvia, Lithuania, Luxembourg, Malta, Mexico, Netherlands, New Zealand, Norway, Poland, Portugal, the Republic of Korea, Romania, the Russian Federation, Slovakia, Slovenia, South Africa, Spain, Sweden, Switzerland, Turkey, Ukraine, and the United Kingdom, established on 12 July 1996, to promote transparency and greater responsibility in transfers of conventional arms and dual-use goods and technologies.

* * * * *

3. Amend § 120.54 by revising paragraphs (a)(5)(iv) and (v) to read as follows:

§ 120.54 Activities that are not exports, reexports, retransfers, or temporary imports.

(a) * * *

(5) * * *

(iv) Not intentionally sent to a person in or stored in a country proscribed in § 126.1 of this subchapter; and

Note 1 to paragraph (a)(5)(iv): Data in-transit via the internet is not deemed to be stored in a country it transits.

(v) Not sent from a country proscribed in § 126.1 of this subchapter;

* * * * *

PART 126—GENERAL POLICIES AND PROVISIONS

4. The authority citation for part 126 continues to read as follows:

Authority: 22 U.S.C. 287c, 2651a, 2752, 2753, 2776, 2778, 2779, 2779a, 2780, 2791, 2797, 10423; sec. 1225, Pub. L. 108-375, 118 Stat. 2091; sec. 7045, Pub. L. 112-74, 125 Stat. 1232; sec. 1250A, Pub. L 116-92, 133 Stat. 1665; sec. 205, Pub. L. 116-94, 133 Stat. 3052; and E.O. 13637, 78 FR 16129, 3 CFR, 2013 Comp., p. 223.

5. Amend § 126.1 by:

a. Revising paragraph (a), table 2 to paragraph (d)(2), and paragraphs (f)(1), (i)(1) and (4), and (j);

b. Removing and reserving paragraph (k)(1), revising paragraphs (k)(5) and (6) and adding paragraphs (k)(7) through (9); and

c. Revising paragraphs (l), (m), (u), and (v)(2) and (3), removing paragraph (v)(4), and revising paragraph (w).

The revisions and additions read as follows:

§ 126.1 Prohibited exports, imports, and sales to or from certain countries.

(a) General. It is the policy of the United States to deny licenses and other approvals for exports and imports of defense articles and defense services, destined for or originating in certain countries. (See also § 129.7 of this subchapter, which imposes restrictions on brokering activities similar to those in this section.) The exemptions provided in this subchapter do not apply with respect to defense articles or defense services originating in or for export to any proscribed countries, areas, or persons as described in this section, except that the following exemptions may be utilized:

(1) Transfers pursuant to § 123.17 of this subchapter, or § 126.6, or § 126.18(e);

(2) Transfers by or for the U.S. Government pursuant to the following sections:

(i) § 126.4(a)(1) or (3);

(ii) § 126.4(b)(1); or

(iii) § 126.4(a)(2) or (b)(2) when the export is destined for Russia and in support of government space cooperation; or

(3) When the recipient is a U.S. Government department or agency.

* * * * *

(d) * * *

(2) * * *

Table 2 to Paragraph (d)(2)
Country | Country specific paragraph location
Afghanistan | See also paragraph (g) of this section.
Cambodia | See also paragraph (o) of this section.
Central African Republic | See also paragraph (u) of this section.
Cyprus | See also paragraph (r) of this section.
Democratic Republic of the Congo | See also paragraph (i) of this section.
Eritrea | See also paragraph (h) of this section.
Ethiopia | See also paragraph (n) of this section.
Haiti | See also paragraph (j) of this section.
Iraq | See also paragraph (f) of this section.
Lebanon | See also paragraph (t) of this section.
Libya | See also paragraph (k) of this section.
Nicaragua | See also paragraph (p) of this section.
Russia | See also paragraph (l) of this section.
Somalia | See also paragraph (m) of this section.
South Sudan | See also paragraph (w) of this section.
Sudan | See also paragraph (v) of this section.
Zimbabwe | See also paragraph (s) of this section.

* * * * *

(f) Iraq.* * *

(1) Non-lethal military equipment; or

* * * * *

(i) Democratic Republic of the Congo.* * *

(1) Defense articles and defense services for the Government of the Democratic Republic of the Congo;

* * * * *

(4) Non-lethal military equipment intended solely for humanitarian or protective use, and related technical assistance and training; or

* * * * *

(j) Haiti. It is the policy of the United States to deny licenses or other approvals for exports or imports of defense articles and defense services destined for or originating in Haiti, except that a license or other approval may be issued, on a case-by-case basis, for:

(1) Defense articles and defense services to or by the United Nations, a United Nations-authorized mission, or a security unit that operates under the command of the Government of Haiti, intended to be used by or in coordination with those entities and intended solely to further the objectives of peace and stability in Haiti;

(2) Other defense articles and defense services as approved in advance by the committee of the United Nations Security Council concerned with Haiti; or

(3) Non-lethal defense articles intended solely for humanitarian or protective use, and related defense services, when intended to further the objectives of peace and stability in Haiti.

(k) Libya.* * *

(5) Non-lethal military equipment intended solely for humanitarian or protective use, and related technical assistance or training;

(6) Other sales or supply of arms and related materiel, or provision of assistance or personnel, as approved in advance by the Committee of the Security Council concerning Libya;

(7) Protective clothing, including flak jackets and military helmets, temporarily exported to Libya by United Nations personnel, representatives of the media, and humanitarian and development workers and associated personnel, for their personal use only;

(8) Defense services to Libyan security forces intended solely to promote the process of reunification of Libyan military and security institutions, as well as associated temporary exports of defense articles intended solely for use by the non-Libyan providers of those defense services for delivery of those services and for their protective use, as notified in advance to the committee of the United Nations Security Council concerned with Libya; or

(9) Military aircraft and or naval vessels temporarily exported by the U.S. Government into the territory of Libya solely to deliver items or facilitate activities otherwise exempted or not covered by the United Nations's arms embargo on Libya, including humanitarian assistance, as well as defense articles for defensive purposes that remain at all times aboard the vessel or aircraft while temporarily in Libya or on the person of any non-Libyan personnel temporarily disembarked from such vessel or aircraft.

(l) Russia. It is the policy of the United States to deny licenses or other approvals for exports of defense articles and defense services destined for Russia, except that a license or other approval may be issued, on a case-by-case basis, for government space cooperation.

(m) Somalia. It is the policy of the United States to deny licenses or other approvals for exports of defense articles and defense services destined for Somalia, except that a license or other approval may be issued, on a case-by-case basis, for:

(1) Defense articles and defense services to the Government of the Federal Republic of Somalia, the Somali National Army, the Somali National Intelligence and Security Agency, the Somali National Police Force, and the Somali Custodial Corps;

(2) Defense articles and defense services intended solely for the support of, or use by:

(i) United Nations personnel, including United Nations Transitional Assistance Mission in Somalia (UNTMIS) and United Nations Support Office in Somalia (UNSOS);

(ii) African Union Support and Stabilization Mission in Somalia (AUSSOM), and the troop- and police-contributing countries to AUSSOM; or

(iii) European Union training and support activities, Turkey, the United Kingdom, or the United States, as well as any other United Nations Member State forces, with a status of forces agreement or a memorandum of understanding with the Government of the Federal Republic of Somalia;

(3) Supplies of protective clothing, including flak jackets and military helmets, temporarily exported to Somalia by United Nations personnel, representatives of the media, private security contractors and humanitarian development workers and associated personnel for their personal use only;

(4) The delivery of non-lethal military equipment by States, or international, regional or subregional organizations intended solely for humanitarian or protective use; or

(5) Entry into Somali ports for temporary visits of vessels carrying weapons and military equipment for defensive purposes provided that such items remain at all times aboard such vessels.

* * * * *

(u) Central African Republic. It is the policy of the United States to deny licenses or other approvals for exports or imports of defense articles and defense services destined for or originating from armed groups and associated individuals operating within the Central African Republic.

(v) Sudan.* * *

(2) Supplies of non-lethal military equipment intended solely for humanitarian, human rights monitoring, or protective uses and related technical training and assistance; or

(3) Personal protective gear for the personal use of United Nations personnel, human rights monitors, representatives of the media, and humanitarian and development workers and associated personnel.

(w) South Sudan. It is the policy of the United States to deny licenses or other approvals for exports of defense articles and defense services destined for South Sudan, except that a license or other approval may be issued, on a case-by-case basis, for:

(1) Defense articles and defense services intended solely for support of, or use by, United Nations personnel, including the United Nations Mission in the Republic of South Sudan (UNMISS) and the United Nations Interim Security Force for Abyei (UNISFA);

(2) Non-lethal military equipment intended solely for humanitarian or protective use, and related technical assistance or training as notified in advance to the United Nations Security Council committee concerned with South Sudan;

(3) Protective clothing, including flak jackets and military helmets, temporarily exported to South Sudan by United Nations personnel, representatives of the media, and humanitarian and development workers and associated personnel, for their personal use only;

(4) Defense articles and defense services temporarily exported to South Sudan by the forces of a State which is taking action, in accordance with international law, solely and directly to facilitate the protection or evacuation of its nationals and those for whom it has consular responsibility in South Sudan, as notified to the committee of the United Nations Security Council concerned with South Sudan;

(5) Defense articles and defense services to or in support of the African Union Regional Task Force intended solely for regional operations to counter the Lord's Resistance Army, as notified in advance to the committee of the United Nations Security Council concerned with South Sudan;

(6) Defense articles and defense services solely in support of the implementation of the terms of the peace agreement, as approved in advance by the committee of the United Nations Security Council concerned with South Sudan;

(7) Any other defense articles or defense services as approved in advance by the committee of the United Nations Security Council concerned with South Sudan; or

(8) Non-lethal military equipment solely in support of the implementation of the peace agreement, and related technical assistance or training on non-lethal military equipment.

Brent T. Christensen,
Senior Official Performing the Duties of the Under Secretary for Arms Control and International Security, Department of State.

[FR Doc. 2025-12560 Filed 7-3-25; 8:45 am]

BILLING CODE 4710-25-P